DEPARTMENT OF ENERGY

10 CFR Part 430

[Docket No. EERE-2011-BT-TP-0071]

RIN 1904-AC67

Energy Conservation Program: Test Procedures for Integrated Light-Emitting Diode Lamps; Correction

AGENCY: Office of Energy Efficiency and Renewable Energy, Department of Energy.

ACTION: Final rule; correction.

SUMMARY: On July 1, 2016, the U.S. Department of Energy (DOE) published a final rule adopting a test procedure for integrated light-emitting diode (LED) lamps (hereafter referred to as “LED lamps”) to support the implementation of labeling provisions by the Federal Trade Commission, as well as the ongoing general service lamps rulemaking, which includes LED lamps (hereafter the “July 2016 final rule”). This correction addresses an error in the July 2016 final rule to add appendix BB to 10 CFR 430.3(p)(5). Neither the error nor the correction in this document affect the substance of the test procedure rulemaking or any of the conclusions reached in support of the final rule.

DATES: Effective Date: September 8, 2016.

FOR FURTHER INFORMATION CONTACT: Ms. Lucy deButts, U.S. Department of Energy, Office of Energy Efficiency and Renewable Energy, Building Technologies Program, EE-2J, 1000 Independence Avenue SW., Washington, DC 20585-0121. Telephone: (202) 287-1604. Email: light_emitting_diodes@ee.doe.gov.

Ms. Celia Sher, U.S. Department of Energy, Office of the General Counsel, GC-33, 1000 Independence Avenue SW., Washington, DC 20585-0121. Telephone: (202) 287-6122. Email: Celia.Sher@hq.doe.gov.

SUPPLEMENTARY INFORMATION: DOE published the July 2016 final rule in the Federal Register on July 1, 2016, which adopted the test procedures for LED lamps in Appendix BB to support the implementation of labeling provisions by the Federal Trade Commission, as well as the ongoing general service lamps rulemaking, which includes LED lamps. 81 FR 43403. The test procedure for standby power adopted in the July 2016 final rule references the test standard published by the International Electrotechnical Commission (IEC), titled “Household electrical appliances—Measurement of standby power,” IEC 62301 (Edition 2.0, 2011-01). Therefore, to incorporate by reference IEC 62301 for appendix BB, DOE attempted to amend § 430.3 to add appendix BB to the list of approved appendices in existing paragraph (p)(5). However, the amendatory instruction was incorrectly written and appendix BB was not added. This final rule corrects § 430.3(p)(5) to include appendix BB.

Procedural Issues and Regulatory Review

The regulatory reviews conducted for this rulemaking are those set forth in the July 2016 final rule that originally codified DOE's adopted test procedures for integrated LED lamps. The test procedures in the July 2016 final rule became effective August 1, 2016.

Pursuant to the Administrative Procedure Act, 5 U.S.C. 553(b), DOE has determined that notice and prior opportunity for comment on this rule are unnecessary and contrary to the public interest. Neither the error nor the correction in this document affect the substance of the rulemaking or any of the conclusions reached in support of the final rule. For these reasons, DOE has also determined that there is good cause to waive the 30-day delay in effective date.

List of Subjects in 10 CFR Part 430

Administrative practice and procedure, Confidential business information, Energy conservation, Household appliances, Imports, Incorporation by reference, Intergovernmental relations, Small businesses.

Issued in Washington, DC, on August 31, 2016.
Kathleen B. Hogan,
Deputy Assistant Secretary, Energy Efficiency and Renewable Energy.

For the reasons stated in the preamble, DOE amends part 430 of title 10 of the Code of Federal Regulations by making the following correcting amendment:

PART 430—ENERGY CONSERVATION PROGRAM FOR CONSUMER PRODUCTS

1. The authority citation for part 430 continues to read as follows:

Authority: 42 U.S.C. 6291-6309; 28 U.S.C. 2461 note.

§ 430.3 [Corrected]

2. Section 430.3(p)(5) is corrected by removing the text “Z and CC” and adding in its place, the text “Z, BB, and CC”.

[FR Doc. 2016-21577 Filed 9-7-16; 8:45 am]

BILLING CODE 6450-01-P